DEPARTMENT OF COMMERCE

International Trade Administration

[A-201-805]

Certain Circular Welded Non-Alloy Steel Pipe From Mexico: Final Results of the 2011-2012 Antidumping Duty Administrative Review

AGENCY: Enforcement and Compliance, formerly Import Administration, International Trade Administration, Department of Commerce.

SUMMARY: On August 9, 2013, the Department of Commerce (the Department) published the preliminary results of the administrative review of the antidumping duty order on certain circular welded non-alloy steel pipe from Mexico for the period November 1, 2011 through October 31, 2012.¹ For the final results, we continue to find that Lamina y Placa Comercial, S.A. de C.V. (Lamina), Mueller Comercial de Mexico, S. de R.L. de C.V. (Mueller), Regiomontana de Perfiles y Tubos, S.A. de C.V. (Regiopytsa), and Tuberia Nacional, S.A. de C. V. (TUNA) made no shipments of subject merchandise during the period of review (POR). We made no changes to the Preliminary Results.

¹ See Certain Circular Welded Non-Alloy Steel Pipe from Mexico: Preliminary Results and Partial Rescission of Antidumping Duty Administrative Review; 2011-2012, 78 FR 48647 (August 9, 2013) (Preliminary Results).

DATES: Effective Date: December 31, 2013.

FOR FURTHER INFORMATION CONTACT: Mark Flessner or Robert James, AD/CVD Operations, Office VI, Enforcement and Compliance, International Trade Administration, U.S. Department of Commerce, 14th Street and Constitution Avenue NW., Washington, DC 20230; telephone: (202) 482-6312 and (202) 482-0649, respectively.

SUPPLEMENTARY INFORMATION:

Background

On August 9, 2013, the Department published the Preliminary Results in the Federal Register.² In the Preliminary Results, the Department rescinded this administrative review with respect to four respondents for which reviews had been initiated but subsequently timely withdrawn (i.e., Conduit S.A. de C.V., PYTCO, S.A. de C.V., Southland Pipe Nipples Co., Inc., and Ternium Mexico, S.A. de C.V.). We also preliminarily determined that Lamina, Mueller, Regiopysta, and TUNA made no shipments during the POR. We invited parties to comment on the Preliminary Results. We received no comments.

² Id.

Scope of the Order

The products covered by this order are circular welded non-alloy steel pipes and tubes, of circular cross-section, not more than 406.4 millimeters (16 inches) in outside diameter, regardless of wall thickness, surface finish (black, galvanized, or painted), or end finish (plain end, beveled end, threaded, or threaded and coupled).³ The merchandise covered by the order and subject to this review is currently classified in the Harmonized Tariff Schedule of the United States (HTSUS) at subheadings: 7306.30.10.00, 7306.30.50.25, 7306.30.50.32, 7306.30.50.40, 7306.30.50.55, 7306.30.50.85, and 7306.30.50.90. Although the HTSUS subheadings are provided for convenience and customs purposes, our written description of the scope of these proceedings is dispositive.

³ For the complete scope of this order, see Notice of Antidumping Duty Orders: Certain Circular Welded Non-Alloy Steel Pipe from Brazil, the Republic of Korea (Korea), Mexico, and Venezuela and Amendment to Final Determination of Sales at Less Than Fair Value: Certain Welded Non-Alloy Steel Pipe from Korea, 57 FR 49453 (November 2, 1992).

Determination of No Shipments

As noted in the Preliminary Results, we received no-shipment claims from Lamina, Mueller, Regiopytsa, and TUNA, and we confirmed these claims with U.S. Customs and Border Protection (CBP). Because we continue to find that the record indicates that Lamina, Mueller, Regiopytsa, and TUNA did not export subject merchandise to the United States during the POR, we determine that they had no reviewable transactions during the POR.

Assessment

The Department will determine, and CBP shall assess, antidumping duties on all appropriate entries, pursuant to section 751(a)(1) of the Act and 19 CFR 351.212(b). We will issue appraisement instructions directly to CBP to assess antidumping duties on appropriate entries by applying the assessment rate to the entered value of the merchandise. Pursuant to 19 CFR 356.8(a), the Department intends to issue assessment instructions to CBP 41 days after the date of publication of these final results of review.

On May 6, 2003, the Department clarified its “automatic assessment” regulation.⁴ This clarification will apply to entries of subject merchandise during the POR for which the reviewed company did not know its merchandise was destined for the United States. In such instances, we will instruct CBP to liquidate unreviewed entries at the all-others rate if there is no rate for the intermediate company(ies) involved in the transaction.

⁴ See Antidumping and Countervailing Duty Proceedings: Assessment of Antidumping Duties, 68 FR 23954 (May 6, 2003) (reseller policy).

For all entries by Lamina, Mueller, Regiopytsa, and TUNA, we will instruct CBP to assess antidumping duties in accordance with the reseller policy.

Cash Deposit Requirements

The following cash deposit requirements will be effective upon publication of these final results for all shipments of the subject merchandise entered, or withdrawn from warehouse, for consumption, on or after the publication date of these final results of administrative review, consistent with section 751(a)(2)(C) of the Act: (1) The cash deposit rate for the reviewed companies will continue to be the company-specific rates published for the most recently completed segment in which the company participated; (2) for merchandise exported by producers or exporters not covered in this review, but covered in a previous segment of this proceeding, the cash deposit rate will continue to be the company-specific rate published for the most recently completed segment of this proceeding in which that manufacturer or exporter participated; (3) if the exporter is not a firm covered in a prior segment of this proceeding, but the manufacturer is, then the cash deposit rate will be the rate established for the most recently completed segment of this proceeding for the manufacturer of the subject merchandise; and (4) the cash deposit rate for all other manufacturers or exporters will continue to be 32.62 percent, the all-others rate established in the original antidumping investigation.⁵ These deposit requirements, when imposed, shall remain in effect until further notice.

⁵ See Final Determination of Sales at Less Than Fair Value: Circular Welded Non-Alloy Steel Pipe From Mexico, 57 FR 42953 (September 17, 1992).

Notifications

This notice also serves as a final reminder to importers of their responsibility under 19 CFR 351.402(f)(2) to file a certificate regarding the reimbursement of antidumping duties prior to liquidation of the relevant entries during this review period. Failure to comply with this requirement could result in the Department's presumption that reimbursement of the antidumping duties occurred and the subsequent assessment of doubled antidumping duties.

This notice also serves as a reminder to parties subject to administrative protective orders (APOs) of their responsibility concerning the disposition of proprietary information disclosed under APO in accordance with 19 CFR 351.305, which continues to govern business proprietary information in this segment of the proceeding. Timely written notification of the return or destruction of APO materials or conversion to judicial protective order is hereby requested. Failure to comply with the regulations and the terms of an APO is a sanctionable violation.

This notice is issued and published in accordance with sections 751(a)(1) and 777(i)(1) of the Tariff Act of 1930, as amended.

Dated: December 20, 2013.
Ronald K. Lorentzen,
Acting Assistant Secretary for Enforcement and Compliance.

[FR Doc. 2013-31343 Filed 12-30-13; 8:45 am]

BILLING CODE 3510-DS-P